DEPARTMENT OF HOUSING AND URBAN DEVELOPMENT

[Docket No. FR-6088-FA-01]

Announcement of Tenant Protection Voucher Funding Awards for Fiscal Year 2017 for the Housing Choice Voucher Program

AGENCY: Office of the Assistant Secretary for Public and Indian Housing, HUD.

ACTION: Announcement of Fiscal Year 2017 Awards.

SUMMARY: In accordance with Section 102(a)(4)(C) of the Department of Housing and Urban Development Reform Act of 1989, this document notifies the public of Tenant Protection Voucher (TPV) funding awards for Fiscal Year (FY) 2017 to public housing agencies (PHAs) under the Section 8 Housing Choice Voucher Program (HCVP). The purpose of this notice is to publish the names, addresses of awardees, and the amount of their non-competitive funding awards for assisting households affected by housing conversion actions, public housing relocations and replacements, moderate rehabilitation replacements, and HOPE VI voucher awards.

FOR FURTHER INFORMATION CONTACT: Milan Ozdinec, Deputy Assistant Secretary, Office of Public Housing and Voucher Programs, Office of Public and Indian Housing, Department of Housing and Urban Development, 451 Seventh Street SW, Room 4204, Washington, DC 20410-5000, telephone (202) 402-1380 (this is not a toll-free number). Persons with hearing or speech impairments may access this number through TTY by calling the toll-free Federal Relay Service at (800) 927-7589.

SUPPLEMENTARY INFORMATION: The regulations governing the HCVP are published at 24 CFR 982. The purpose of the rental assistance program is to assist eligible families to pay their rent for decent, safe, and sanitary housing in the private rental market. The regulations for allocating housing assistance budget authority under Section 213(d) of the Housing and Community Development Act of 1974 are published at 24 CFR part 791, subpart D.

The FY 2017 awardees announced in this notice were provided HCVP tenant protection vouchers (TPVs) funds on an as-needed, non-competitive basis, i.e., not consistent with the provisions of a Notice of Funding Availability (NOFAs). TPV awards made to PHAs for program actions that displace families living in public housing were made on a first-come, first-served basis in accordance with PIH Notice 2007-10, Voucher Funding in Connection with the Demolition or Disposition of Occupied Public Housing Units, and PIH Notice 2017-10, “Implementation of the Federal Fiscal Year (FFY) 2017 Funding Provision for the Housing Choice Voucher Program.” Awards for the Rental Assistance Demonstration (RAD) were provided for Rental Supplement and Rental Assistance Payment Projects (RAD Second Component) consistent with PIH Notice 2012-32 (HA), REV-2, “Rental Assistance Demonstration-Final Implementation, Revision 2.” Announcements of awards provided under the NOFA process for Mainstream, Designated Housing, Family Unification (FUP), and Veterans Assistance Supportive Housing (VASH) programs will be published in a separate Federal Register notice.

Awards published under this notice were provided (1) to assist families living in HUD-owned properties that are being sold; (2) to assist families affected by the expiration or termination of their Section 8 Project-based and Moderate Rehabilitation contracts; (3) to assist families in properties where the owner has prepaid the HUD mortgage; (4) to assist families in projects where the Rental Supplement and Rental Assistance Payments contracts are expired (RAD—Second Component); (5) to provide relocation housing assistance in connection with the demolition of public housing; (6) to assist individuals affected by the expiration or termination of their Section 8 single room occupancy (SRO) contracts; and (7) to assist families in public housing developments that are scheduled for demolition in connection with a HUD-approved HOPE VI revitalization or demolition grant, and (8) to assist families consistent with PIH Notice 2016-12, “Funding Availability for Tenant Protection Voucher for Certain At-Risk Households in Low Vacancy Areas-Fiscal Year 2016.”

A special administrative fee of $200 per occupied unit was provided to PHAs to compensate for any extraordinary HCVP administrative costs associated with the Multifamily Housing conversion actions.

The Department awarded total new budget authority of $94,468,761 to recipients under all the above-mentioned categories for 9,218 housing choice vouchers. This budget authority includes $1,386,144 of unobligated commitments made in FY 2016. These funds were reserved by September 30, 2016, but not contracted until FY 2017, and thus have been included with obligated commitments for FY 2017.

In accordance with Section 102(a)(4)(C) of the Department of Housing and Urban Development Reform Act of 1989 (103 Stat. 1987, 42 U.S.C. 3545), the Department is publishing the names, addresses of awardees, and their award amounts in Appendix A. The awardees are listed alphabetically by State for each type of TPV award.

Dated: March 20, 2018.
Dominique G. Blom,
General Deputy Assistant Secretary for Public and Indian Housing.

Section 8 Rental Assistance Programs Announcement of Awards for Fiscal Year 2017
Housing agency | Address | Units | Award
Special Fees
Special Fees—At-Risk Households
CA: SAN JOSE HOUSING AUTHORITY | 505 WEST JULIAN STREET, SAN JOSE, CA 95110 | 0 | $21,200
MA: BOSTON HOUSING AUTHORITY | 52 CHAUNCY STREET, BOSTON, MA 02111 | 0 | 6,400
Total for Special Fees—At-Risk Households |  | 0 | 27,600
Special Fees—Opt-Outs/Terminations
CA: CITY OF LOS ANGELES HSG AUTH | 2600 WILSHIRE BLVD., 3RD FLOOR, LOS ANGELES, CA 90057 | 0 | 5,600
CA: COUNTY OF SHASTA HSG AUTH | 1670 MARKET STREET, STE. 300, REDDING, CA 96001 | 0 | 1,800
CT: ANSONIA HOUSING AUTHORITY | 36 MAIN STREET, ANSONIA, CT 06401 | 0 | 1,200
DC: DC HOUSING AUTHORITY | 1133 NORTH CAPITOL STREET NE, WASHINGTON, DC 20002 | 0 | 23,200
FL: HOUSING AUTHORITY OF | 1300 BROAD STREET, JACKSONVILLE, FL 32202 | 0 | 9,200
IA: CITY OF DES MOINES MUNICIPAL | 2309 EUCLID AVE., DES MOINES, IA 50310 | 0 | 23,400
IA: NORTHWEST IOWA REGIONAL HA | P.O. BOX 446, 919 2ND AVENUE SW, SPENCER, IA 51301 | 0 | 1,400
IL: CHICAGO HOUSING AUTHORITY | 60 EAST VAN BUREN ST., 11TH FLOOR, CHICAGO, IL 60605 | 0 | 1,000
IL: HOUSING AUTHORITY OF COOK | 175 WEST JACKSON BOULEVARD, SUITE 350, CHICAGO, IL 60604 | 0 | 22,000
IL: HSG AUTHORITY OF THE COUNTY OF | 33928 N U.S. HIGHWAY 45, GRAYSLAKE, IL 60030 | 0 | 31,600
KS: KANSAS CITY HOUSING AUTHORITY | 1124 NORTH NINTH STREET, KANSAS CITY, KS 66101 | 0 | 1,600
KS: ELLIS COUNTY PHA | C/O NORTHWEST KS HOUSING, INC., P.O. BOX 248, 319 N POMEROY | 0 | 1,000
KY: HOPKINSVILLE HOUSING AUTHORITY | 400 NORTH ELM STREET, P.O. BOX 437, HOPKINSVILLE, KY | 0 | 2,600
MA: SPRINGFIELD HSG AUTHORITY | 25 SAAB COURT, P.O. BOX 1609, SPRINGFIELD, MA 01101 | 0 | 5,600
MI: MICHIGAN STATE HSG. DEV. AUTH | P.O. BOX 30044, LANSING, MI 48909 | 0 | 25,000
MN: ST. PAUL PHA | 555 NORTH WABASHA, SUITE 400, ST. PAUL, MN 55102 | 0 | 8,600
MN: WORTHINGTON HRA | 819 TENTH STREET, WORTHINGTON, MN 56187 | 0 | 1,800
MN: ST. CLOUD HRA | 1225 WEST ST. GERMAIN, ST. CLOUD, MN 56301 | 0 | 1,200
MN: NW MN MULTI-COUNTY HRA | P.O. BOX 128, MENTOR, MN 56736 | 0 | 600
MO: ST. CLAIR CO. HSG. AUTHORITY | P.O. BOX 125, APPLETON CITY, MO 64724 | 0 | 1,800
MS: MISS REG H A II | P.O. BOX 1887, OXFORD, MS 38655 | 0 | 17,400
NC: HA OF THE CITY OF CHARLOTTE | P.O. BOX 36795, 1301 SOUTH BOULEVARD, CHARLOTTE, NC 28236 | 0 | 7,000
NC: HA COUNTY OF WAKE | 100 SHANNON STREET, P.O. BOX 399, ZEBULON, NC 27597 | 0 | 5,600
ND: STUTSMAN COUNTY HOUSING | 300 2ND ST NE-200, JAMESTOWN, ND 58401 | 0 | 1,200
ND: HOUSING AUTHORITY OF THE | P.O. BOX 5, ASHLEY, ND 58413 | 0 | 2,600
ND: DICKEY/SARGENT HOUSING AUTHORITY | P.O. BOX 624, 309 NORTH 2ND, ELLENDALE, ND 58436 | 0 | 5,800
ND: HOUSING AUTHORITY OF THE | 3530 33RD AVENUE NE, HARVEY, ND 58341 | 0 | 2,800
NE: OMAHA HOUSING AUTHORITY | 1805 HARNEY STREET, OMAHA, NE 68102 | 0 | 4,600
NE: CENTRAL NEBRASKA JOINT HSG AUTH | P.O. BOX 509, LOUP CITY, NE 68853 | 0 | 3,200
NJ: VINELAND HOUSING AUTHORITY | 191 CHESTNUT AVENUE, VINELAND, NJ 08360 | 0 | 2,000
NV: SOUTHERN NEVADA REGIONAL | 340 NORTH 11TH ST., LAS VEGAS, NV 89104 | 0 | 1,600
NY: THE CITY OF NEW YORK | DEPT. OF HSG. PRESERVATION & DEV., 100 GOLD STREET, ROOM 501 | 0 | 200
NY: NYS HSG TRUST FUND CORPORATION | 38-40 STATE STREET, ALBANY, NY 12207 | 0 | 19,200
OH: COLUMBUS METRO. HA | 880 EAST 11TH AVENUE, COLUMBUS, OH 43211 | 0 | 9,600
OH: CUYAHOGA MHA | 8120 KINSMAN ROAD, CLEVELAND, OH 44104 | 0 | 1,600
OH: CINCINNATI METROPOLITAN | 1635 WESTERN AVE., CINCINNATI, OH 45214 | 0 | 31,200
OH: STARK METROPOLITAN HOUSING | 400 EAST TUSCARAWAS STREET, CANTON, OH 44702 | 0 | 7,200
OH: MEDINA MHA | 850 WALTER ROAD, MEDINA, OH 44256 | 0 | 3,400
PA: HOUSING AUTHORITY OF THE CITY OF | 200 ROSS STREET, ATTN: PATRICK BLACKWELL, PITTSBURGH, PA | 0 | 21,200
PA: PHILADELPHIA HOUSING AUTHORITY | 12 SOUTH 23RD STREET, PHILADELPHIA, PA 19103 | 0 | 46,000
PA: BETHLEHEM HOUSING AUTHORITY | 645 MAIN STREET, 4TH FLOOR OFFICES, BETHLEHEM, PA 18018 | 0 | 1,600
PA: FAYETTE COUNTY HOUSING | 624 PITTSBURGH ROAD, UNIONTOWN, PA 15401 | 0 | 8,000
SD: CITY OF LENNOX HOUSING & | P.O. BOX 265, HIGHWAY 17 AT SECOND AVE., LENNOX, SD 57039 | 0 | 400
SD: CITY OF MITCHELL HOUSING & | 200 E 15TH AVE., MITCHELL, SD 57301 | 0 | 1,000
TX: GRAND PRAIRIE HSNG & COMM DEV | P.O. BOX 534045, 205 W CHURCH ST., GRAND PRAIRIE, TX 75053 | 0 | 4,000
TX: DALLAS COUNTY HOUSING | 2377 N STEMMONS FREEWAY, SUITE 600-LB 12, DALLAS, TX 75207 | 0 | 10,200
WA: KING COUNTY HOUSING AUTHORITY | 600 ANDOVER PARK WEST, SEATTLE, WA 98188 | 0 | 20,800
WA: BELLINGHAM HOUSING AUTHORITY | 208 UNITY ST. LOWER LEVEL, P.O. BOX 9701, BELLINGHAM, WA 98225 | 0 | 9,600
WA: HOUSING AUTHORITY OF SNOHOMISH | 12625 4TH AVE. W, SUITE 200, EVERETT, WA 98204 | 0 | 4,600
WA: PIERCE COUNTY HOUSING | 603 S POLK, P.O. BOX 45410, TACOMA, WA 98445 | 0 | 2,800
Total for Special Fees—Opt-Outs/Terminations |  | 0 | 426,600
Special Fees—Prepays
CT: ANSONIA HOUSING AUTHORITY | 36 MAIN STREET, ANSONIA, CT 06401 | 0 | 4,400
FL: HA MIAMI BEACH | 200 ALTON ROAD, MIAMI BEACH, FL 33139 | 0 | 6,200
IL: SPRINGFIELD HOUSING AUTHORITY | 200 NORTH ELEVENTH STREET, SPRINGFIELD, IL 62703 | 0 | 18,200
MA: CAMBRIDGE HOUSING AUTHORITY | 675 MASSACHUSETTS AVENUE, CAMBRIDGE, MA 02139 | 0 | 68,000
MA: HOLYOKE HOUSING AUTHORITY | 475 MAPLE STREET, HOLYOKE, MA 01040 | 0 | 8,400
MA: CHICOPEE HOUSING AUTHORITY | 128 MEETINGHOUSE ROAD, CHICOPEE, MA 01013 | 0 | 32,600
MA: WORCESTER HOUSING AUTHORITY | 40 BELMONT STREET, WORCESTER, MA 01605 | 0 | 31,200
MA: WESTFIELD HSG AUTHORITY | ALICE BURKE WAY, P.O. BOX 99, WESTFIELD, MA 01085 | 0 | 49,600
MD: HOUSING AUTHORITY OF BALTIMORE | 417 EAST FAYETTE STREET, BALTIMORE, MD 21201 | 0 | 35,800
MI: MICHIGAN STATE HSG. DEV. AUTH | P.O. BOX 30044, LANSING, MI 48909 | 0 | 12,800
NJ: ATLANTIC CITY HOUSING AUTHORITY | 227 VERMONT AVENUE, P.O. BOX 1258, ATLANTIC CITY, NJ | 0 | 40,400
NY: ALBANY HOUSING AUTHORITY | 200 SOUTH PEARL, ALBANY, NY 12202 | 0 | 11,000
NY: HA OF ROCHESTER | 675 WEST MAIN STREET, ROCHESTER, NY 14611 | 0 | 75,400
NY: NYS HSG TRUST FUND CORPORATION | 38-40 STATE STREET, ALBANY, NY 12207 | 0 | 3,200
TX: GRAND PRAIRIE HSNG & COMM DEV | P.O. BOX 534045, 205 W CHURCH ST., GRAND PRAIRIE, TX 75053 | 0 | 40,000
UT: HA OF CITY OF OGDEN | 1100 GRANT AVE., OGDEN, UT 84404 | 0 | 8,800
WV: WHEELING HOUSING AUTHORITY | P.O. BOX 2089, 11 COMMUNITY STREET, WHEELING, WV 26003 | 0 | 24,400
Total for Special Fees—Prepays |  | 0 | 470,400
Special Fees—RAD Conversions
CA: SAN FRANCISCO HSG AUTH | 1815 EGBERT AVE., SAN FRANCISCO, CA 94124 | 0 | 26,600
CO: LITTLETON HSG AUTH | 5844 S DATURA ST., LITTLETON, CO 80120 | 0 | 41,800
MA: HOLYOKE HOUSING AUTHORITY | 475 MAPLE STREET, HOLYOKE, MA 01040 | 0 | 15,200
NJ: ELIZABETH HOUSING AUTHORITY | 688 MAPLE AVENUE, ELIZABETH, NJ 07202 | 0 | 200
NY: THE CITY OF NEW YORK | DEPT. OF HSG. PRESERVATION & DEV., 100 GOLD STREET, ROOM 501 | 0 | 9,400
WA: SEATTLE HOUSING AUTHORITY | 120 SIXTH AVENUE NORTH, P.O. BOX 19028, SEATTLE, WA 98109 | 0 | 6,800
Total for Special Fees—RAD Conversions |  | 0 | 100,000
Special Fees—Relocation—Rent Supplement
MA: BOSTON HOUSING AUTHORITY | 52 CHAUNCY STREET, BOSTON, MA 02111 | 0 | 21,400
MA: WAKEFIELD H A | 26 CRESCENT ST., WAKEFIELD, MA 01880 | 0 | 8,600
Total for Special Fees—Relocation—Rent Supplement |  | 0 | 30,000
Total for Special Fees |  | 0 | 1,054,600
Public Housing TP
Choice Neighborhood Relocation (Sunset Provision)
CA: SAN FRANCISCO HSG AUTH | 1815 EGBERT AVE., SAN FRANCISCO, CA 94124 | 89 | 1,434,218
CT: NORWALK HOUSING AUTHORITY | 24½ MONROE STREET, NORWALK, CT 06856 | 36 | 545,918
NJ: HOUSING AUTHORITY OF THE CITY OF | 2021 WATSON STREET, CAMDEN, NJ 08105 | 192 | 1,600,494
WI: HA OF THE CITY OF MILWAUKEE | P.O. BOX 324, 809 NORTH BROADWAY, MILWAUKEE, WI 53201 | 100 | 627,840
Total for Choice Neighborhood Relocation (Sunset Provision) |  | 417 | 4,208,470
Choice Neighborhood Replacement
CA: COUNTY OF SACRAMENTO HOUSING | 801 12TH STREET, SACRAMENTO, CA 95814 | 141 | 1,211,235
KY: LOUISVILLE HOUSING AUTHORITY | 420 SOUTH EIGHTH STREET, LOUISVILLE, KY 40203 | 117 | 912,263
MO: HOUSING AUTHORITY OF KANSAS | 920 MAIN STREET, SUITE 701, KANSAS CITY, MO 64106 | 78 | 558,960
Total for Choice Neighborhood Replacement |  | 336 | 2,682,458
CPD—SRO Replacement
CO: FORT COLLINS HSG AUTH | 1715 W MOUNTAIN AVE., FORT COLLINS, CO 80521 | 15 | 121,997
OH: CUYAHOGA MHA | 8120 KINSMAN ROAD, CLEVELAND, OH 44104 | 6 | 37,347
PA: PHILADELPHIA HOUSING AUTHORITY | 12 SOUTH 23RD STREET, PHILADELPHIA, PA 19103 | 24 | 194,412
Total for CPD—SRO Replacement |  | 45 | 353,756
Mod Rehab—RAD
CA: SAN FRANCISCO HSG AUTH | 1815 EGBERT AVE., SAN FRANCISCO, CA 94124 | 133 | 2,712,402
CO: LITTLETON HSG AUTH | 5844 S DATURA ST., LITTLETON, CO 80120 | 209 | 1,715,572
NY: THE CITY OF NEW YORK | DEPT. OF HSG. PRESERVATION & DEV., 100 GOLD STREET, ROOM 501 | 47 | 558,180
WA: SEATTLE HOUSING AUTHORITY | 120 SIXTH AVENUE NORTH, P.O. BOX 19028, SEATTLE, WA 98109 | 34 | 404,026
Total for Mod Rehab—RAD |  | 423 | 5,390,180
Mod Replacements
CA: COUNTY OF SACRAMENTO HOUSING | 801 12TH STREET, SACRAMENTO, CA 95814 | 1 | 8,490
CA: ALAMEDA COUNTY HSG AUTH | 22941 ATHERTON STREET, HAYWARD, CA 94541 | 8 | 115,392
CO: AURORA HOUSING AUTHORITY | 10745 E KENTUCKY AVENUE, AURORA, CO 80012 | 48 | 456,180
DC: DC HOUSING AUTHORITY | 1133 NORTH CAPITOL STREET NE, WASHINGTON, DC 20002 | 38 | 413,834
FL: HA MIAMI BEACH | 200 ALTON ROAD, MIAMI BEACH, FL 33139 | 128 | 1,963,787
IA: CITY OF DES MOINES MUNICIPAL | 2309 EUCLID AVE., DES MOINES, IA 50310 | 12 | 59,463
MD: MARYLAND DEPT OF HSG & | 7800 HARKINS ROAD, LANHAM, MD 20706 | 1 | 7,516
MI: DETROIT HOUSING COMMISSION | 1301 EAST JEFFERSON AVENUE, DETROIT, MI 48207 | 5 | 35,778
NY: CITY OF NORTH TONAWANDA | C/O BELMONT HOUSING RESOURCES, 1195 MAIN ST., BUFFALO, NY | 3 | 11,577
OH: CUYAHOGA MHA | 8120 KINSMAN ROAD, CLEVELAND, OH 44104 | 2 | 12,449
TX: SAN ANTONIO HOUSING AUTHORITY | 818 S FLORES STREET, P.O. BOX 1300, SAN ANTONIO, TX 78295 | 27 | 172,156
WA: HOUSING AUTHORITY CITY OF | 1207 COMMERCE AVENUE, LONGVIEW, WA 98632 | 8 | 42,300
WV: CHARLESTON/KANAWHA HA | 1525 WASHINGTON STREET WEST, P.O. BOX 86, CHARLESTON, WV | 4 | 21,177
WV: HOUSING AUTHORITY CITY OF | P.O. BOX 1475, 1600 HILL AVENUE, BLUEFIELD, WV 24701 | 6 | 7,769
Total for Mod Replacements |  | 291 | 3,327,868
MTW Replacement
MA: CAMBRIDGE HOUSING AUTHORITY | 675 MASSACHUSETTS AVENUE, CAMBRIDGE, MA 02139 | 173 | 2,919,998
Total for MTW Replacement |  | 173 | 2,919,998
Relocation—Sunset
DC: DC HOUSING AUTHORITY | 1133 NORTH CAPITOL STREET NE, WASHINGTON, DC 20002 | 257 | 3,600,416
RI: NEWPORT HOUSING AUTHORITY | 120B HILLSIDE AVENUE, NEWPORT, RI 02840 | 4 | 43,806
TX: HOUSING AUTHORITY OF EL PASO | 5300 PAISANO, EL PASO, TX 79905 | 0 | 29,687
Total for Relocation—Sunset |  | 261 | 3,673,909
Replacement
CA: SAN FRANCISCO HSG AUTH | 1815 EGBERT AVE., SAN FRANCISCO, CA 94124 | 848 | 14,238,763
CA: CITY OF LOS ANGELES HSG AUTH | 2600 WILSHIRE BLVD., 3RD FLOOR, LOS ANGELES, CA 90057 | 62 | 659,072
CA: ALAMEDA COUNTY HSG AUTH | 22941 ATHERTON STREET, HAYWARD, CA 94541 | 50 | 721,056
CT: MERIDEN HOUSING AUTHORITY | 22 CHURCH STREET, MERIDEN, CT 06450 | 116 | 1,191,343
DE: NEWARK HOUSING AUTHORITY | 313 E MAIN STREET, NEWARK, DE 19711 | 1 | 7,971
FL: HA PALM BEACH COUNTY | 3432 W 45TH STREET, WEST PALM BEACH, FL 33407 | 44 | 475,591
IL: HOUSING AUTHORITY OF JOLIET | 6 SOUTH BROADWAY STREET, JOLIET, IL 60436 | 120 | 1,206,202
IL: MENARD COUNTY HOUSING | 101 W SHERIDAN ROAD, PETERSBURG, IL 62675 | 238 | 1,296,281
IN: EAST CHICAGO HA | 4920 LARKSPUR DR., P.O. BOX 498, EAST CHICAGO, IN 46312 | 0 | 586,193
MD: HOUSING AUTHORITY OF BALTIMORE | 417 EAST FAYETTE STREET, BALTIMORE, MD 21201 | 58 | 580,527
MD: ANNE ARUNDEL COUNTY HOUSING | 7885 GORDON COURT, P.O. BOX 817, GLEN BURNIE, MD 21060 | 100 | 1,168,453
MS: MISSISSIPPI REGIONAL HOUSING | P.O. BOX 1051, COLUMBUS, MS 39703 | 13 | 59,940
NY: THE MUNICIPAL HOUSING AUTHORITY | 1511 CENTRAL PARK AVE., P.O. BOX 35, YONKERS, NY 10710 | 32 | 389,710
PA: MCKEESPORT HOUSING AUTHORITY | 2901 BROWNLEE AVENUE, MCKEESPORT, PA 15132 | 11 | 68,746
RI: NEWPORT HOUSING AUTHORITY | 120B HILLSIDE AVENUE, NEWPORT, RI 02840 | 30 | 328,540
TX: HOUSTON HOUSING AUTHORITY | 2640 FOUNTAIN VIEW, HOUSTON, TX 77057 | 111 | 844,022
TX: CORPUS CHRISTI HOUSING | 3701 AYERS STREET, CORPUS CHRISTI, TX 78415 | 122 | 907,650
TX: GALVESTON HOUSING AUTHORITY | 4700 BROADWAY, GALVESTON, TX 77551 | 31 | 248,983
TX: TAYLOR HSG AUTHORITY | 311-C EAST 7TH STREET, TAYLOR, TX 76574 | 52 | 345,065
UT: HOUSING AUTHORITY OF THE | 3595 S MAIN STREET, SALT LAKE CITY, UT 84115 | 2 | 15,544
VA: NORFOLK REDEVELOPMENT & H/A | 201 GRANBY ST., P.O. BOX 968, NORFOLK, VA 23501 | 24 | 207,800
VQ: VIRGIN ISLANDS HOUSING AUTHORITY | P.O. BOX 7668, ST. THOMAS, VI 00801 | 283 | 2,473,375
VT: RUTLAND HOUSING AUTHORITY | 5 TREMONT STREET, RUTLAND, VT 05701 | 25 | 139,135
WA: HOUSING AUTHORITY CITY OF | 3107 COLBY AVE., P.O. BOX 1547, EVERETT, WA 98206 | 60 | 574,185
Total for Replacement |  | 2,433 | 28,734,147
Witness Relocation Assistance
CO: JEFFERSON COUNTY HOUSING | 7490 WEST 45TH AVENUE, WHEATRIDGE, CO 80033 | 1 | 16,056
CT: DANBURY HOUSING AUTHORITY | 2 MILL RIDGE ROAD, P.O. BOX 86, DANBURY, CT 06810 | 1 | 18,000
CT: STRATFORD HOUSING AUTHORITY | 295 EVERETT STREET, P.O. BOX 668, STRATFORD, CT 06497 | 1 | 14,424
FL: HA WEST PALM BEACH GENERAL | 1715 DIVISION AVENUE, WEST PALM BEACH, FL 33407 | 1 | 26,280
FL: HA FORT LAUDERDALE CITY | 437 SW 4TH AVENUE, FORT LAUDERDALE, FL 33315 | 1 | 21,612
FL: BROWARD COUNTY HOUSING | 4780 NORTH STATE ROAD 7, LAUDERDALE LAKES, FL 33319 | 1 | 11,532
MA: BOSTON HOUSING AUTHORITY | 52 CHAUNCY STREET, BOSTON, MA 02111 | 2 | 43,872
Total for Witness Relocation Assistance |  | 8 | 151,776
Total for Public Housing TP |  | 4,387 | 51,442,562
Housing TP
Certain At-Risk Households Low Vacancy
CA: SAN JOSE HOUSING AUTHORITY | 505 WEST JULIAN STREET, SAN JOSE, CA 95110 | 104 | 1,559,289
MA: BOSTON HOUSING AUTHORITY | 52 CHAUNCY STREET, BOSTON, MA 02111 | 32 | 462,048
Total for Certain At-Risk Households Low Vacancy |  | 136 | 2,021,337
New Hsg Conversion Rent Supplement
MA: BOSTON HOUSING AUTHORITY | 52 CHAUNCY STREET, BOSTON, MA 02111 | 107 | 1,400,703
MA: WAKEFIELD H A | 26 CRESCENT ST., WAKEFIELD, MA 01880 | 43 | 479,607
Total for New Hsg Conversion Rent Supplement |  | 150 | 1,880,310
Prepayment—RAD
MA: HOLYOKE HOUSING AUTHORITY | 475 MAPLE STREET, HOLYOKE, MA 01040 | 76 | 502,384
Total for Prepayment—RAD |  | 76 | 502,384
Pre-payment Vouchers
CT: ANSONIA HOUSING AUTHORITY | 36 MAIN STREET, ANSONIA, CT 06401 | 22 | 215,149
FL: HA MIAMI BEACH | 200 ALTON ROAD, MIAMI BEACH, FL 33139 | 18 | 160,194
IL: SPRINGFIELD HOUSING AUTHORITY | 200 NORTH ELEVENTH STREET, SPRINGFIELD, IL 62703 | 91 | 514,496
MA: CAMBRIDGE HOUSING AUTHORITY | 675 MASSACHUSETTS AVENUE, CAMBRIDGE, MA 02139 | 340 | 5,586,392
MA: HOLYOKE HOUSING AUTHORITY | 475 MAPLE STREET, HOLYOKE, MA 01040 | 42 | 277,633
MA: CHICOPEE HOUSING AUTHORITY | 128 MEETINGHOUSE ROAD, CHICOPEE, MA 01013 | 163 | 1,115,898
MA: WORCESTER HOUSING AUTHORITY | 40 BELMONT STREET, WORCESTER, MA 01605 | 156 | 1,033,344
MA: WESTFIELD HSG AUTHORITY | ALICE BURKE WAY, P.O. BOX 99, WESTFIELD, MA 01085 | 248 | 1,541,657
MD: HOUSING AUTHORITY OF BALTIMORE | 417 EAST FAYETTE STREET, BALTIMORE, MD 21201 | 179 | 1,791,625
MI: MICHIGAN STATE HSG. DEV. AUTH | P.O. BOX 30044, LANSING, MI 48909 | 64 | 391,089
NJ: ATLANTIC CITY HOUSING AUTHORITY | 227 VERMONT AVENUE, P.O. BOX 1258, ATLANTIC CITY, NJ | 202 | 2,232,504
NY: ALBANY HOUSING AUTHORITY | 200 SOUTH PEARL, ALBANY, NY 12202 | 55 | 356,730
NY: HA OF ROCHESTER | 675 WEST MAIN STREET, ROCHESTER, NY 14611 | 377 | 1,986,624
NY: NYS HSG TRUST FUND CORPORATION | 38-40 STATE STREET, ALBANY, NY 12207 | 16 | 164,329
TX: GRAND PRAIRIE HSNG & COMM DEV | P.O. BOX 534045, 205 W CHURCH ST., GRAND PRAIRIE, TX 75053 | 200 | 1,574,112
UT: HA OF CITY OF OGDEN | 1100 GRANT AVE., OGDEN, UT 84404 | 44 | 225,641
WV: WHEELING HOUSING AUTHORITY | P.O. BOX 2089, 11 COMMUNITY STREET, WHEELING, WV 26003 | 122 | 600,884
Total for Pre-payment Vouchers |  | 2,339 | 19,768,301
Relocation 8bb Sunset
WA: HOUSING AUTHORITY OF SNOHOMISH | 12625 4TH AVE. W, SUITE 200, EVERETT, WA 98204 | 24 | 240,849
Total for Relocation 8bb Sunset |  | 24 | 240,849
Rent Supplement—RAD
NJ: ELIZABETH HOUSING AUTHORITY | 688 MAPLE AVENUE, ELIZABETH, NJ 07202 | 1 | 10,555
Total for Rent Supplement—RAD |  | 1 | 10,555
Termination/Opt-Out Vouchers
CA: COUNTY OF SHASTA HSG AUTH | 1670 MARKET STREET, STE. 300, REDDING, CA 96001 | 9 | 43,197
CT: ANSONIA HOUSING AUTHORITY | 36 MAIN STREET, ANSONIA, CT 06401 | 6 | 61,712
DC: DC HOUSING AUTHORITY | 1133 NORTH CAPITOL STREET NE, WASHINGTON, DC 20002 | 116 | 1,625,090
FL: HOUSING AUTHORITY OF | 1300 BROAD STREET, JACKSONVILLE, FL 32202 | 46 | 310,274
IA: CITY OF DES MOINES MUNICIPAL | 2309 EUCLID AVE., DES MOINES, IA 50310 | 117 | 580,572
IA: NORTHWEST IOWA REGIONAL HA | P.O. BOX 446, 919 2ND AVENUE SW, SPENCER, IA 51301 | 7 | 21,762
IL: CHICAGO HOUSING AUTHORITY | 60 EAST VAN BUREN ST., 11TH FLOOR, CHICAGO, IL 60605 | 5 | 52,788
IL: HOUSING AUTHORITY OF COOK | 175 WEST JACKSON BOULEVARD, SUITE 350, CHICAGO, IL 60604 | 110 | 1,295,874
IL: HSG AUTHORITY OF THE COUNTY OF | 33928 N U.S. HIGHWAY 45, GRAYSLAKE, IL 60030 | 158 | 1,295,897
KS: KANSAS CITY HOUSING AUTHORITY | 1124 NORTH NINTH STREET, KANSAS CITY, KS 66101 | 8 | 56,191
KS: ELLIS COUNTY PHA | C/O NORTHWEST KS HOUSING, INC., P.O. BOX 248, 319 N POMEROY | 5 | 19,944
KY: HOPKINSVILLE HOUSING AUTHORITY | 400 NORTH ELM STREET, P.O. BOX 437, HOPKINSVILLE, KY | 13 | 47,139
MA: SPRINGFIELD HSG AUTHORITY | 25 SAAB COURT, P.O. BOX 1609, SPRINGFIELD, MA 01101 | 28 | 205,091
MI: MICHIGAN STATE HSG. DEV. AUTH | P.O. BOX 30044, LANSING, MI 48909 | 125 | 763,845
MN: ST. PAUL PHA | 555 NORTH WABASHA, SUITE 400, ST. PAUL, MN 55102 | 43 | 334,156
MN: WORTHINGTON HRA | 819 TENTH STREET, WORTHINGTON, MN 56187 | 9 | 33,205
MN: ST. CLOUD HRA | 1225 WEST ST. GERMAIN, ST. CLOUD, MN 56301 | 6 | 32,858
MN: NW MN MULTI-COUNTY HRA | P.O. BOX 128, MENTOR, MN 56736 | 3 | 12,770
MO: ST. CLAIR CO. HSG. AUTHORITY | P.O. BOX 125, APPLETON CITY, MO 64724 | 9 | 43,728
MS: MISS REG H A II | P.O. BOX 1887, OXFORD, MS 38655 | 87 | 607,963
NC: HA OF THE CITY OF CHARLOTTE | P.O. BOX 36795, 1301 SOUTH BOULEVARD, CHARLOTTE, NC 28236 | 35 | 330,704
NC: HA COUNTY OF WAKE | 100 SHANNON STREET, P.O. BOX 399, ZEBULON, NC 27597 | 28 | 192,961
ND: STUTSMAN COUNTY HOUSING | 300 2ND ST. NE—200, JAMESTOWN, ND 58401 | 6 | 21,745
ND: HOUSING AUTHORITY OF THE | P.O. BOX 5, ASHLEY, ND 58413 | 13 | 46,995
ND: DICKEY/SARGENT HOUSING AUTHORITY | P.O. BOX 624, 309 NORTH 2ND, ELLENDALE, ND 58436 | 29 | 87,933
ND: HOUSING AUTHORITY OF THE | 3530 33RD AVENUE NE, HARVEY, ND 58341 | 14 | 37,763
NE: OMAHA HOUSING AUTHORITY | 1805 HARNEY STREET, OMAHA, NE 68102 | 23 | 163,375
NE: CENTRAL NEBRASKA JOINT HSG AUTH | P.O. BOX 509, LOUP CITY, NE 68853 | 16 | 96,975
NH: KEENE HOUSING | 831 COURT STREET, KEENE, NH 03431 | 0 | 44,940
NJ: VINELAND HOUSING AUTHORITY | 191 CHESTNUT AVENUE, VINELAND, NJ 08360 | 10 | 93,670
NV: SOUTHERN NEVADA REGIONAL | 340 NORTH 11TH ST., LAS VEGAS, NV 89104 | 8 | 77,917
NY: THE CITY OF NEW YORK | DEPT. OF HSG. PRESERVATION & DEV, 100 GOLD STREET, ROOM 501 | 1 | 11,876
NY: NYS HSG TRUST FUND CORPORATION | 38-40 STATE STREET, ALBANY, NY 12207 | 96 | 957,646
OH: COLUMBUS METRO. HA | 880 EAST 11TH AVENUE, COLUMBUS, OH 43211 | 48 | 297,827
OH: CUYAHOGA MHA | 8120 KINSMAN ROAD, CLEVELAND, OH 44104 | 8 | 49,796
OH: CINCINNATI METROPOLITAN | 1635 WESTERN AVE., CINCINNATI, OH 45214 | 156 | 989,781
OH: STARK METROPOLITAN HOUSING | 400 EAST TUSCARAWAS STREET, CANTON, OH 44702 | 36 | 173,137
OH: MEDINA MHA | 850 WALTER ROAD, MEDINA, OH 44256 | 17 | 85,362
PA: HOUSING AUTHORITY OF THE CITY OF | 200 ROSS STREET, ATTN: PATRICK BLACKWELL, PITTSBURGH, PA | 106 | 731,413
PA: PHILADELPHIA HOUSING AUTHORITY | 12 SOUTH 23RD STREET, PHILADELPHIA, PA 19103 | 230 | 2,362,753
PA: BETHLEHEM HOUSING AUTHORITY | 645 MAIN STREET, 4TH FLOOR OFFICES, BETHLEHEM, PA 18018 | 8 | 62,145
PA: FAYETTE COUNTY HOUSING | 624 PITTSBURGH ROAD, UNIONTOWN, PA 15401 | 40 | 221,626
SD: CITY OF LENNOX HOUSING & | P.O. BOX 265, HIGHWAY 17 AT SECOND AVE., LENNOX, SD 57039 | 2 | 9,779
SD: CITY OF MITCHELL HOUSING & | 200 E 15TH AVE., MITCHELL, SD 57301 | 5 | 14,777
TX: GRAND PRAIRIE HSNG & COMM DEV | P.O. BOX 534045, 205 W CHURCH ST., GRAND PRAIRIE, TX 75053 | 20 | 157,411
TX: DALLAS COUNTY HOUSING | 2377 N STEMMONS FREEWAY, SUITE 600—LB 12, DALLAS, TX 75207 | 51 | 371,668
WA: KING COUNTY HOUSING AUTHORITY | 600 ANDOVER PARK WEST, SEATTLE, WA 98188 | 104 | 1,734,296
WA: BELLINGHAM HOUSING AUTHORITY | 208 UNITY ST. LOWER LEVEL, P.O. BOX 9701, BELLINGHAM, WA 98225 | 48 | 321,512
WA: HOUSING AUTHORITY OF SNOHOMISH | 12625 4TH AVE. W, SUITE 200, EVERETT, WA 98204 | 23 | 234,410
WA: PIERCE COUNTY HOUSING | 603 S POLK, P.O. BOX 45410, TACOMA, WA 98445 | 14 | 121,614
Total for Termination/Opt-Out Vouchers |  | 2,105 | 17,547,863
Total for Housing TP |  | 4,831 | 41,971,599
Grand Total |  | 9,218 | 94,468,761

[FR Doc. 2018-06363 Filed 3-28-18; 8:45 am]

BILLING CODE 4210-67-P